DEPARTMENT OF THE INTERIOR

Bureau of Land Management

[LLORL00000.L10200000.XZ0000.LXSSH1050000.212.HAG 21-0031]

Notice of Public Meetings for the John Day-Snake and Southeast Oregon Resource Advisory Councils

AGENCY: Bureau of Land Management, Interior.

ACTION: Notice of public meetings.

SUMMARY: In accordance with the Federal Land Policy and Management Act and the Federal Advisory Committee Act of 1972, the U.S. Department of the Interior, Bureau of Land Management's (BLM) John Day-Snake and Southeast Oregon Resource Advisory Councils (RACs) will meet as follows.

DATES: The John Day-Snake and Southeast Oregon RACs will hold a joint meeting Thursday, June 24, 2021, from 8 a.m. to 5 p.m. (Pacific Time). The Southeast Oregon RAC will hold a meeting on Wednesday, June 23, 2021, from noon to 5 p.m. The John Day-Snake RAC will hold a meeting on Friday, June 25, 2021, from 8 a.m. to noon. A public comment period will be offered each day of the meetings.

ADDRESSES: The June meetings will be held at the Malheur National Forest, Supervisor's Office, 431 Patterson Bridge Road, John Day, OR 97845. If public health restrictions remain in place, the meetings will be held virtually.

The final agendas will be posted online at https://www.blm.gov/get-involved/resource-advisory-council/near-you/oregon-washington at least 1 week before the meetings.

Written comments can be mailed to: BLM Lakeview District; Attn: Todd Forbes; 1301 South G Street; Lakeview, OR 97630. All comments received will be provided to the John Day-Snake and Southeast Oregon RAC members.

FOR FURTHER INFORMATION CONTACT: Lisa McNee, Public Affairs Specialist, 1301 South G Street, Lakeview, OR 97630; telephone: 541-947-6811; email: lmcnee@blm.gov. Persons who use a telecommunications device for the deaf (TDD) may call the Federal Relay Service (FRS) at 1-800-877-8339 to contact Ms. McNee during normal business hours. The FRS is available 24 hours a day, 7 days a week, to leave a message or question. You will receive a reply during normal business hours.

SUPPLEMENTARY INFORMATION: The John Day-Snake and Southeast Oregon RACs are chartered, and the 15 members are appointed by the Secretary of the Interior. Their diverse perspectives are represented in commodity, non-commodity, and local interests. The RACs serve in an advisory capacity to BLM and U.S. Forest Service officials. All meetings are open to the public in their entirety. Information to be distributed to the RACs is requested before the start of each meeting.

The juristictional boundaries of the John Day-Snake and Southeast Oregon RACs encompass over half of the State of Oregon. The RACs address many similar public-land-management topics and find it beneficial to periodically hold joint meetings to network, share ideas, and receive information. Agenda items for the joint meeting include updates regarding the Southeastern Oregon and Lakeview Resource Management Plan Amendments processes; district updates, to include wild horses and burros, wildfire management, and the Great American Outdoors Act; and a presentation by the Oregon Department of Natural Resources on mule deer.

Agenda items for the Southeast Oregon RAC meeting include an overview of programmatic Environmental Impact Statements and Categorical Exclusions relating to land management in Oregon; briefings regarding environmental analyses, impact statements, and proposed management actions on the Lakeview, Burns, and Vale districts; and rangeland and grazing management. Agenda items for the John Day-Snake RAC meeting include campground and cabin rental recreation fees in the Wallowa-Whitman National Forest; district and national forest updates; and a discussion on motorized and nonmotorized trail access.

The public may address the John Day-Snake and Southeast Oregon RACs during the public comment portion of the meetings on June 23, 24 and June 25, 2021. Depending on the number of persons wishing to speak, and the time available, the time for individual comments may be limited.

Before including your address, phone number, email address, or other personal identifying information in your comments, please be aware that your entire comment—including your personal identifying information—may be made publicly available at any time. While you can ask us in your comment to withhold your personal identifying information from public review, we cannot guarantee we will be able to do so.

Authority: 43 CFR 1784.4-2.

James Forbes,
Lakeview District Manager.

[FR Doc. 2021-10486 Filed 5-18-21; 8:45 am]

BILLING CODE 4310-33-P